DEPARTMENT OF TRANSPORTATION

National Highway Traffic Safety Administration

[U.S. DOT Docket No. NHTSA-2009-0192]

Reports, Forms, and Record Keeping Requirements

AGENCY: National Highway Traffic Safety Administration (NHTSA), DOT.

ACTION: Request for public comment on proposed collection of information.

SUMMARY: Before a Federal agency can collect certain information from the public, it must receive approval from the Office of Management and Budget (OMB). Under procedures established by the Paperwork Reduction Act of 1995 (44 U.S.C. 3501 et seq.), before seeking OMB approval, Federal agencies must solicit public comment on proposed collections of information, including extensions and reinstatements of previously approved collections.

This document describes a generic Information Collection Request (ICR) for which NHTSA intends to seek OMB approval.

DATES: Comments must be submitted on or before April 26, 2010.

ADDRESSES: Direct all written comments to the U.S. Department of Transportation Dockets, 1200 New Jersey Ave., SE., W46-474, Washington, DC 20590. Docket No. NHTSA-2009-0192.

FOR FURTHER INFORMATION CONTACT: Scott Roberts, PhD, Contracting Officer's Technical Representative, Office of Behavioral Safety Research (NTI-132), National Highway Traffic Safety Administration, 1200 New Jersey Ave., SE., W46-495, Washington, DC 20590. Dr. Roberts' phone number is 202-366-5594 and his e-mail address is Scott.Roberts@dot.gov.

SUPPLEMENTARY INFORMATION: Under the Paperwork Reduction Act of 1995, before an agency submits a proposed collection of information to OMB for approval, it must publish a document in the Federal Register providing a 60-day comment period and otherwise consult with members of the public and affected agencies concerning each proposed collection of information. The OMB has promulgated regulations describing what must be included in such a document. Under OMB's regulations (at 5 CFR 1320.8(d)), an agency must ask for public comment on the following:

(i) Whether the proposed collection of information is necessary for the proper performance of the functions of the agency, including whether the information will have practical utility;

(ii) The accuracy of the agency's estimate of the burden of the proposed collection of information, including the validity of the methodology and assumptions used;

(iii) How to enhance the quality, utility, and clarity of the information to be collected; and

(iv) How to minimize the burden of the collection of information on those who are to respond, including the use of appropriate automated, electronic, mechanical, or other technological collection techniques or other forms of information technology, e.g., permitting electronic submission of responses.

In compliance with these requirements, NHTSA asks public comment on the following proposed collection of information:

Title: Focus Groups for Traffic Safety Programs, Interventions and Countermeasures.

Type of Request: New generic information collection request.

OMB Clearance Number: N/A.

Form Number: This collection of information uses no standard forms.

Requested Expiration Date of Approval: May 31, 2013.

Summary of the Collection of Information: The National Highway Traffic Safety Administration (NHTSA) anticipates the needs to periodically conduct focus group sessions to refine its efforts to reduce traffic injuries and fatalities. Session participation would be voluntary and compensated with a $75 honorarium. Focus group topics will include: strategic messaging (e.g., slogans or advertisement concepts concerning seat belt use, impaired driving, driver distraction or tire pressure monitoring), problem identification (e.g., discussions with high-risk groups on beliefs, attitudes, driving behaviors, or reactions to interventions and countermeasures), and resource development (e.g., testing materials designed to communicate essential information about traffic safety issues such as vehicle or equipment performance rating systems). The purpose of the generic clearance request is to obtain approval for NHTSA's general approach to conducting focus group research. NHTSA will submit an individual Information Collection Request (ICR), detailing the specific nature and methodology of planned focus group sessions, to the Office of Management and Budget (OMB) prior to any collection activity covered under this generic clearance.

Description of the Need for the Information and Proposed Use of the Information—The National Highway Traffic Safety Administration (NHTSA) was established by the Highway Safety Act of l970 (23 U.S. C. 101) to carry out a Congressional mandate to reduce the mounting number of deaths, injuries, and economic losses resulting from motor vehicle crashes on the Nation's highways. In support of this mission, NHTSA anticipates the occasional need to conduct focus group sessions in order to develop and refine effective interventions and countermeasures.

NHTSA will use the findings from focus group sessions to help focus current programs, interventions and countermeasures in order to achieve the greatest benefit in decreasing crashes and resulting injuries and fatalities, and provide informational support to States, localities, and law enforcement agencies that will aid them in their efforts to reduce traffic crashes.

Description of the Likely Respondents (Including Estimated Number, and Proposed Frequency of Response to the Collection of Information)—Each year NHTSA anticipates conducting 100 focus groups sessions. Likely respondents are licensed drivers 18 years of age and older who have not participated in a previous focus group session.

Estimate of the Total Annual Reporting and Record Keeping Burden Resulting from the Collection of Information—Each of the 100 focus group sessions will consist of 10 participants on average and last approximately 80 minutes. Participants will be recruited by intercept or telephone using a brief screening questionnaire estimated to take no more than 10 minutes. Therefore, the estimated annual burden is 1500 hours. The respondents would not incur any reporting cost from the information collection. The respondents also would not incur any record keeping burden or record keeping cost from the information collection.

Authority: 44 U.S.C. Section 3506(c)(2)(A).

Issued on: February 19, 2010.
Jeff Michael,
Associate Administrator, Research and Program Development.

[FR Doc. 2010-3656 Filed 2-23-10; 8:45 am]

BILLING CODE 4910-59-P